DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (last amended at Federal Register, Vol. 76, No. 203, pp. 65197-65199, dated October 20, 2011 is amended to reflect a change in functional responsibility between the Center for Medicaid and CHIP Services (CMCS) within the Office of the Administrator and the Consortium for Medicaid and Children's Health Operations (CMCHO) within the Chief Operating Officer.

CMCS serves as CMS' focal point for assistance with formulation, coordination, integration, and implementation of all national program policies and operations relating to Medicaid, Children's Health Insurance Program (CHIP), and the Basic Health Program. In partnership with States, CMCS assists State agencies in successfully carrying out their responsibilities for effective program administration and beneficiary protection, and, as necessary, supports States in correcting problems and improving the quality of their operations. CMCHO serves as the local point of contact for CMS activities related to Medicaid and CHIP. CMCHOs' key activities are linked to and carried out in conjunction with CMCS. The key activities include: supporting program transparency and fiscal oversight of the Medicaid and CHIP; and delivering technical assistance to States to help achieve the Administration's and States' Medicaid goals and objectives to support high-functioning State Medicaid programs.

Close collaboration between CMCS and CMCHO is critical in addressing the need for an increased level of consistency and accountability in working with the States. The complexities of the Medicaid program make this particularly challenging since each State has a different approach to the program. In order to maximize consistency across the two organizations, there already have been several standard operating procedures and quality improvement initiatives instituted.

This reorganization addresses the Agency's needs by supporting consistent policy implementation and accountability (structural and outcome measures) for Medicaid and CHIP activities, and improved communication. The functions in CMCHO were merged within CMCS as the Regional Operations Group in addition to establishing the Regional Management Office (RMO) and the Division of Health Information Technology for Economic and Clinical Health and Medicaid Management Information System. The functions in the Special Initiatives Division were merged within CMCS and the RMO.

Part F, Section FC.20 (Functions) is amended as follows:

Section FC.20 (Functions)

• Serves as CMS' focal point for assistance with formulation, coordination, integration, and implementation of all national program policies and operations relating to Medicaid, the Children's Health Insurance Program (CHIP), and the Basic Health Program (BHP).

• In partnership with States, assists State agencies in successfully carrying out their responsibilities for effective program administration and beneficiary protection, and, as necessary, supports States in correcting problems and improving the quality of their operations.

• Identifies and proposes modifications to Medicaid, CHIP, and BHP program measures, regulations, laws, and policies to reflect changes or trends in the health care industry, program objectives, and the needs of Medicaid, CHIP, and BHP beneficiaries. Collaborates with the Office of Legislation on the development and advancement of new legislative initiatives and improvements.

• Serves as CMS' lead for management, oversight, budget, and performance issues relating to Medicaid, CHIP, BHP and the related interactions with States and the stakeholder community.

• Coordinates with the Center for Program Integrity on the identification of program vulnerabilities and implementation of strategies to eliminate fraud, waste, and abuse. Leads and supports all CMS interactions and collaboration relating to Medicaid, CHIP, and BHP with States and local governments, territories, Indian tribes and tribal healthcare providers, key stakeholders (e.g., consumer and policy organizations and the health care provider community) and other Federal government entities. Facilitates communication and disseminates policy and operational guidance and materials to all stakeholders and works to understand and consider their perspectives, support their efforts, and to develop best practices for beneficiaries across the country and throughout the health care system.

• Develops and implements a comprehensive strategic plan, objectives, and measures to carry out CMS' Medicaid, CHIP, and BHP mission and goals and positions the organization to meet future challenges with Medicaid, CHIP, and BHP.

The functional responsibilities for CMCHO have been deleted at cms.gov (https://www.cms.gov/About-CMS/Agency-Information/CMSLeadership/index.html).

Authority: 44 U.S.C. 3101.

Dated: February 5, 2019.
Seema Verma,
Administrator, Centers for Medicare and Medicaid Services.

[FR Doc. 2019-02400 Filed 2-13-19; 4:15 pm]

BILLING CODE 4120-01-P